CONSUMER PRODUCT SAFETY COMMISSION

Sunshine Act Meeting

Time and Date: Thursday, February 23, 2006; 10 a.m.

Place: Room 420, Bethesda Towers, 4330 East West Highway, Bethesda, Maryland.

Status: Open to the public.

Matters To Be Considered: Flammability Standard for Upholstered Furniture—The Commission staff will brief the Commission on regulatory options to address residential upholstered furniture flammability.

For a recorded message containing the latest agenda information, call (301) 504-7948.

Contact Person For More Information: Todd A. Stevenson, Office of the Secretary, U.S. Consumer Product Safety Commission, 4330 East West Highway, Bethesda, MD 20814 (301) 504-7923.

Dated: February 9, 2006.
Todd A. Stevenson,
Secretary.

[FR Doc. 06-1372 Filed 2-9-06; 2:35 pm]

BILLING CODE 6355-01-M